SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before January 3, 2011.

ADDRESSES: Send all comments regarding whether this information collection is necessary for the proper performance of the function of the agency, whether the burden estimates are accurate, and if there are ways to minimize the estimated burden and enhance the quality of the collection, to Audrey L. Farley, SES Candidate, Office of Financial Assistance, Small Business Administration, 409 3rd Street, 8th Floor, Washington, DC 20416.

FOR FURTHER INFORMATION CONTACT: Audrey L. Farley, Office of Financial Assistance, 202-205-7006, audrey.farley@sba.gov; Curtis B. Rich, Management Analyst, 202-205-7030, curtis.rich@sba.gov.

SUPPLEMENTARY INFORMATION: The information collected through these forms from future Intermediary lenders will be used to determine eligibility and to properly evaluate the merits of each application for a direct loan. In addition, the information will be collected for the purpose of providing direct loan funds under the Intermediary Lending Pilot Program (ILPP) to eligible Intermediaries, which in turn will be used to provide loans to start-up, newly established, and growing small business concerns for working capital, real estate, or the acquisition of materials, supplies or equipment.

Title: “Intermediary Lending Pilot Program (ILPP).”

Description of Respondents: Private, Non-Profit Organizations or Community Development Corporations; and an Agency or Non-Profit entity established by a Native American Tribal Government.

Form Number: N/A.

Annual Responses: 200.

Annual Burden: 3,200.

Jacqueline White,
Chief, Administrative Information Branch.

[FR Doc. 2010-27730 Filed 11-2-10; 8:45 am]

BILLING CODE P